DEPARTMENT OF TRANSPORTATION

National Highway Traffic Safety Administration

[Docket No. NHTSA-2013-0125; Notice 2]

Hankook Tire America Corp, Grant of Petition for Decision of Inconsequential Noncompliance

AGENCY: National Highway Traffic Safety Administration (NHTSA), Department of Transportation (DOT).

ACTION: Grant of Petition.

SUMMARY: Hankook Tire America Corp, (Hankook) has determined that certain model year Hankook Roadhandler Sport (H432) tires manufactured between June 21, 2013 and August 29, 2013, do not fully comply with paragraph S5.5(f) of Federal Motor Vehicle Safety Standard (FMVSS) No.139, New Pneumatic Radial Tires for Light Vehicles. Hankook has filed an appropriate report dated October 4, 2013, pursuant to 49 CFR part 573, Defect and Noncompliance Responsibility and Reports.

ADDRESSES: For further information on this decision contact Abraham Diaz, Office of Vehicle Safety Compliance, the National Highway Traffic Safety Administration (NHTSA), telephone (202) 366-5310, facsimile (202) 366-5930.

SUPPLEMENTARY INFORMATION:

I. Hankook's Petition: Pursuant to 49 U.S.C. 30118(d) and 30120(h) (see implementing rule at 49 CFR part 556), Hankook submitted a petition for an exemption from the notification and remedy requirements of 49 U.S.C. Chapter 301 on the basis that this noncompliance is inconsequential to motor vehicle safety.

Notice of receipt of the October 4, 2013, petition was published, with a 30-day public comment period, on December 10, 2013 in the Federal Register (78 FR 74226). No comments were received. To view the petition and all supporting documents log onto the Federal Docket Management System (FDMS) Web site at: http://www.regulations.gov/. Then follow the online search instructions to locate docket number “NHTSA-2013-0125.”

II. Tires Involved: Affected are approximately 6,257 Roadhandler Sport (H432), size 215/45R17 91W XL, Hankook tires manufactured between June, 21, 2013 and August 29, 2013.

III. Noncompliance: Hankook explains that the noncompliance is that, due to a mold labeling error, the sidewall marking on the side of the tires incorrectly describes the actual number of plies in the tread area of the tires as required by paragraph S5.5(f) of 49 CFR 571.139. Specifically, the tires in question were inadvertently manufactured with “Ply Tread 2 steel + 1 Polyester + 2 Nylon, Sidewall 1 Polyester.” The correct labeling and stamping to match the tire construction should have been “Ply Tread 2 steel + 1 Polyester + 1 Nylon, Sidewall 1 Polyester.”

IV. Rule Text: Paragraph S5.5(f) of FMVSS No. 139 requires in pertinent part:

S5.5 Tire Markings. Except as specified in paragraphs (a) through (i) of S5.5, each tire must be marked on each sidewall with the information specified in S5.5(a) through (d) and on one side-wall with the information specified in S5.5(e) through (i) according to the phase-in schedule specified in S7 of this standard. The markings must be placed between the maximum section width and the bead on at least one sidewall, unless the maximum section width of the tire is located in an area that is not more than one-fourth of the distance from the bead to the shoulder of the tire. If the maximum section width that falls within that area, those markings must appear between the bead and a point one-half the distance from the bead to the shoulder of the tire, on at least one sidewall. The markings must be in letters and numerals not less than 0.078 inches high and raised above or sunk below the tire surface not less than 0.015 inches . . .

(f) The actual number of plies in the sidewall, and the actual number of plies in the tread area, if different.

V. Summary of Hankook's Analyses: Hankook stated its belief that the subject noncompliance is inconsequential to motor vehicle safety for the following reasons:

1. The affected subject tires meet or exceed all applicable FMVSS performance standards.

2. The subject tires will not be affected based on performance, durability, or safety they are designed and build for.

Hancock has additionally informed NHTSA that it has corrected the noncompliance so that all future production of these Roadhandler Sport (H432) tires will comply with FMVSS No. 139.

In summation, Hankook believes that the described noncompliance of the subject tires is inconsequential to motor vehicle safety, and that its petition, to exempt from providing recall notification of noncompliance as required by 49 U.S.C. 30118 and remedying the recall noncompliance as required by 49 U.S.C. 30120 should be granted.

VI. NHTSA's Decision: The agency agrees with Hankook that the noncompliance is inconsequential to motor vehicle safety. The agency believes that the true measure of inconsequentiality to motor vehicle safety in this case is that there is no effect of the noncompliance on the operational safety of the vehicles on which these tires are mounted. The safety of people working in the tire retread, repair and recycling industries must also be considered.

Although tire construction affects the strength and durability, neither the agency nor the tire industry provides information relating tire strength and durability to the number of plies and types of ply cord material in the tread and sidewall. Therefore, tire dealers and customers should consider the tire construction information along with other information such as load capacity, maximum inflation pressure, and tread wear, temperature, and traction ratings, to assess performance capabilities of various tires. In the agency's judgment, the incorrect labeling of the tire construction information will have an inconsequential effect on motor vehicle safety because most consumers do not base tire purchases or vehicle operation parameters on the number of plies in a tire.

The agency believes the noncompliance will have no measurable effect on the safety of tire retread, repair, and recycling industries. The use of steel cord construction in the sidewall and tread is the primary safety concern of these industries. In this case, since the tire sidewall is marked correctly for the number of steel plies, this potential safety concern does not exist.

In consideration of the foregoing, NHTSA has decided that Hankook has met its burden of persuasion that the noncompliance described is inconsequential to motor vehicle safety. Accordingly, Hankook's petition is granted and the petitioner is exempted from the obligation of providing notification of, and remedy for, the subject noncompliance.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject tires that Hankook no longer controlled at the time that it determined that a noncompliance existed. However, the granting of this petition does not relieve tire distributors and dealers of the prohibitions on the sale, offer for sale, or introduction or delivery for introduction into interstate commerce of the noncompliant tires under their control after Hankook notified them that the subject noncompliance existed.

Authority: (49 U.S.C. 30118, 30120: delegations of authority at 49 CFR 1.95 and 501.8).

Jeffrey M. Giuseppe,
Acting Director, Office of Vehicle Safety Compliance.

[FR Doc. 2014-12270 Filed 5-27-14; 8:45 am]

BILLING CODE 4910-59-P